DEPARTMENT OF HOMELAND SECURITY

Federal Emergency Management Agency

[Docket ID: FEMA-2018-0009; OMB No. 1660—NEW]

Agency Information Collection Activities: Submission for OMB Review; Comment Request; Transcript Request Form

AGENCY: Federal Emergency Management Agency, DHS.

ACTION: Notice and request for comments.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before July 23, 2018.

ADDRESSES: Submit written comments on the proposed information collection to the Office of Information and Regulatory Affairs, Office of Management and Budget. Comments should be addressed to the Desk Officer for the Department of Homeland Security, Federal Emergency Management Agency, and sent via electronic mail to dhsdeskofficer@omb.eop.gov.

FOR FURTHER INFORMATION CONTACT: Requests for additional information or copies of the information collection should be made to Director, Information Management Division, 500 C Street SW, Washington, DC 20472, email address FEMA-Information-Collections-Management@fema.dhs.gov or Clarence (Smiley) White, Chief, Operations and Support Branch, United States Fire Administration, 301-447-1055 or by email at Smiley.White@fema.dhs.gov.

SUPPLEMENTARY INFORMATION: This proposed information collection previously published in the Federal Register on February 22, 2018 at 83 FR 7752 with a 60 day public comment period. FEMA received two anonymous public comments that were not relevant to the information collection. The purpose of this notice is to notify the public that FEMA will submit the information collection abstracted below to the Office of Management and Budget for review and clearance.

Collection of Information

Title: Transcript Request Form.

Type of Information Collection: New information collection.

OMB Number: 1660—NEW.

Form Titles and Numbers: FEMA Form 064-0-0-12, Transcript Request Form.

Abstract: FEMA provides training to advance the professional development of personnel engaged in fire prevention and control and emergency management activities through its Center for Domestic Preparedness (CDP), Emergency Management Institute (EMI), National Fire Academy (NFA), National Training and Education Division, National Domestic Preparedness Consortium, and Rural Domestic Preparedness Consortium. FEMA collects information from students who have completed courses at the National Fire Academy (NFA) and the Emergency Management Institute (EMI) for the purpose of fulfilling the student's request to provide a copy of their transcript for their personal records and/or for transmittal to an institution of higher education that delivers training and education also in support of the FEMA mission.

Affected Public: Individuals or households; Business or other for-profit; Not-for-profit institutions; State, Local or Tribal Government.

Estimated Number of Respondents: 4,500.

Estimated Number of Responses: 4,500.

Estimated Total Annual Burden Hours: 225 hours.

Estimated Total Annual Respondent Cost: $7,978.50.

Estimated Respondents' Operation and Maintenance Costs: $0.

Estimated Respondents' Capital and Start-Up Costs: $0.

Estimated Total Annual Cost to the Federal Government: $28,899.24.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Rachel Frier,
Records Management Branch Chief, Office of the Chief Administrative Officer, Mission Support, Federal Emergency Management Agency, Department of Homeland Security.

[FR Doc. 2018-13291 Filed 6-20-18; 8:45 am]

BILLING CODE 9111-45-P